DEPARTMENT OF HOMELAND SECURITY

Federal Emergency Management Agency

[Docket No. FEMA-2015-0001; Internal Agency Docket No. FEMA-B-1352]

Proposed Flood Hazard Determinations

AGENCY: Federal Emergency Management Agency, DHS.

ACTION: Notice; correction.

SUMMARY: On December 23, 2013, the Federal Emergency Management Agency (FEMA) published in the Federal Register a proposed flood hazard determination notice that included information for the Town of South Bethany in the table titled “Sussex County, Delaware, and Incorporated Areas”. FEMA is no longer proposing these flood hazard determination changes for the Town of South Bethany as identified in the above-referenced publication.

DATES: Comments are to be submitted on or before April 15, 2015.

ADDRESSES: You may submit comments, identified by Docket No. FEMA-B-1352, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: FEMA proposes to make flood hazard determinations in accordance with Section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP and are also used to calculate the appropriate flood insurance premium rates for new buildings built after the FIRM and FIS report become effective.

Correction

In the proposed flood hazard determination notice published at 78 FR 77482, in the December 23, 2013, issue of the Federal Register, FEMA published a table titled “Sussex County, Delaware, and Incorporated Areas”. This table included the Town of South Bethany as one of the communities for which flood hazard changes were being proposed. FEMA is no longer proposing these flood hazard determination changes for the Town of South Bethany as identified in the above-referenced publication.

(Catalog of Federal Domestic Assistance No. 97.022, “Flood Insurance.”)

Dated: February 23, 2015.
Roy E. Wright,
Deputy Associate Administrator for Mitigation, Department of Homeland Security, Federal Emergency Management Agency.

[FR Doc. 2015-05840 Filed 3-13-15; 8:45 am]

BILLING CODE 9110-12-P